DEPARTMENT OF TRANSPORTATION

Federal Aviation Administration

14 CFR Part 39

[Docket No. 2001-SW-53-AD; Amendment 39-13079; AD 2003-05-03]

RIN 2120-AA64

Airworthiness Directives; Bell Helicopter Textron Canada Model 407 Helicopters

AGENCY: Federal Aviation Administration, DOT.

ACTION: Final rule.

SUMMARY: This amendment adopts a new airworthiness directive (AD) for the specified Bell Helicopter Textron Canada (Bell) model helicopters that requires preflight checking and repetitively inspecting for a crack in certain tailbooms that have not been redesigned and replacing the tailboom if a crack is found; modifying and re-identifying certain tailbooms and installing an improved horizontal stabilizer assembly; and assigning a 5,000 hour time-in-service (TIS) life limit. This amendment is prompted by cracking discovered in other areas of certain tailbooms and introduction of a redesigned tailboom with a chemically milled skin, which does not require the current inspections. The actions specified by this AD are intended to prevent separation of the tailboom and subsequent loss of control of the helicopter.

DATES: Effective April 17, 2003.

The incorporation by reference of certain publications listed in the regulations is approved by the Director of the Federal Register as of April 17, 2003.

ADDRESSES: The service information referenced in this AD may be obtained from Bell Helicopter Textron Canada, 12,800 Rue de l'Avenir, Mirabel, Quebec J7J1R4, telephone (450) 437-2862 or (800) 363-8023, fax (450) 433-0272. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Sharon Miles, Aviation Safety Engineer, FAA, Rotorcraft Directorate, Regulations Group, Fort Worth, Texas 76193-0111, telephone (817) 222-5122, fax (817) 222-5961.

SUPPLEMENTARY INFORMATION: On March 21, 2000, the FAA issued AD 2000-06-10, Amendment 39-11651 (65 FR 16804, March 30, 2000), to require preflight checking and repetitively inspecting the tailboom for a crack and replacing the tailboom if a crack is found. That action was prompted by four reports of cracks on the tailboom in the area of the horizontal stabilizer. The requirements of that AD were intended to prevent separation of the tailboom and subsequent loss of control of the helicopter. Next, a proposal to amend 14 CFR part 39 to include an AD for Bell Model 407 helicopters was published in the Federal Register on January 31, 2002 (67 FR 4685). That NPRM would have required preflight checking and repetitively inspecting for a crack in certain tailbooms that have not been redesigned and replacing the tailboom if a crack is found. It further proposed that installing tailboom, P/N 407-030-801-201, would constitute terminating action for the requirements of that AD.

Since the issuance of that NPRM on January 31, 2002 (67 FR 4685), the manufacturer has issued Bell Helicopter Textron Alert Service Bulletin (ASB) No. 407-99-26, Revision C, dated February 28, 2002, that addresses inspection procedures for certain tailbooms. The manufacturer also issued Bell Helicopter Textron ASB No. 407-01-48, Revision B, dated April 25, 2002, that details the modification and re-identification of those certain tailbooms, assigns a life limit, and details new inspection procedures for those re-identified tailbooms. Additionally, ASB 407-01-48 assigns a life limit and details new inspection procedures for another part-numbered tailboom that was modified by the manufacturer. Further, in addition to the redesigned tailboom, P/N 407-030-801-201, referenced in the NPRM, Bell has at least one additional redesigned tailboom, P/N 407-030-801-203, for these helicopters. Transport Canada, which is the airworthiness authority for Canada, has issued a revised AD No. CF-1999-17R2, dated April 5, 2002, to address these changed requirements.

After reviewing comments received in response to that proposal as well as updated service information from the manufacturer, on November 14, 2002 (67 FR 68952), the FAA published a supplemental notice in the Federal Register to propose mandating daily pre-flight checks and initial 25-hour TIS inspections with recurring 50 hour TIS inspections for the tailbooms, P/N 407-030-801-101 and -105, until they are modified and re-identified. Once modified and re-identified as P/N 407-530-014-101 and -103, respectively, the FAA proposed to mandate the 150-hour TIS inspection and assign a 5,000-hour TIS life limit. The 150-hour TIS inspection and 5,000 hour life limit also applies to the tailboom, P/N 407-030-801-107. Additionally, the cite to tailboom, P/N 407-030-801-201, as a terminating action was removed since the installation of other redesigned tailbooms may also effectively remove a helicopter from the applicability of this proposal, thereby constituting a terminating action for the requirements of this AD.

Interested persons have been afforded an opportunity to participate in the making of this amendment. Due consideration has been given to the comments received.

Two commenters state that the instructions need to be clear regarding the assignment of the life limit. The FAA agrees and has changed paragraph (d) of the AD to clarify the tailboom life limit. For the modified tailbooms, P/N 407-530-014-101 and P/N 407-530-014-103, 5,000 hours TIS since modified and installed is the life limit. The life limit for tailboom, P/N 407-030-801-107, is 5,000 hours since new (initially installed on any helicopter).

One commenter states that the proposed compliance date may be too short. Additionally, the commenter points out an incorrect reference in the preamble discussion to the part number tailboom cited for use as a terminating action. The FAA agrees; P/N 407-030-801-101 cited in the discussion should have been P/N 407-030-801-201. Also, the FAA agrees that the compliance time was too short. Because the compliance time cited in the proposal was “January 31, 2003” and that date has passed, the required compliance time for paragraph (c) of the AD is changed to “within 30 days.”

After careful review of the available data, including the comments noted above, the FAA has determined that air safety and the public interest require the adoption of the rule with the changes described previously. The FAA has determined that these changes will neither increase the economic burden on any operator nor increase the scope of the AD.

The FAA estimates that 284 helicopters of U.S. registry will be affected by this AD, that it will take approximately 3.5 work hours per helicopter to accomplish the initial inspections, 1.5 work hours per helicopter to accomplish the recurring inspections, and 18 work hours per helicopter to accomplish the modification, and that the average labor rate is $60 per work hour. Required parts will cost approximately $1,244 per helicopter. Based on these figures, the total cost impact of the AD on U.S. operators is estimated to be $3,254 per helicopter, or $924,136, assuming all U.S. registered helicopters are required to be modified and initially inspected, and have 8 repetitive inspections per year. In its service information, under certain conditions, the manufacturer offers a “special” warranty for parts needed for modifying tailbooms, P/N 407-030-801-101 and-105, and a labor allowance of $480.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-05-03 Bell Helicopter Textron Canada: Amendment 39-13079. Docket No. 2001-SW-53-AD. Supersedes AD 2000-06-10, Docket No. 99-SW-75-AD, Amendment 39-11651.

Applicability: Model 407 helicopters, serial numbers 53000 through 53475, with tailboom, part number (P/N) 407-030-801-101, -105 or-107, or P/N 407-530-014-101 or -103, (re-identified in accordance with Bell Helicopter Textron (Bell) Alert Service Bulletin (ASB) 407-01-48, Revision B, dated April 25, 2002), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (h) of this AD. The request should include an assessment of the effect of the modification, alteration, or repair on the unsafe condition addressed by this AD; and if the unsafe condition has not been eliminated, the request should include specific proposed actions to address it.

Compliance: Required as indicated.

To prevent separation of the tailboom and subsequent loss of control of the helicopter, accomplish the following:

Applicable tailboom | Compliance time | Actions | In accordance with
(a) Tailboom, P/N 407-030-801-101 and -105, that have not been modified in accordance with Bell ASB 407-01-048, Revision B, dated April 25, 2002 | Before the first flight of each day | Visually check the tailboom for cracks. An owner/operator (pilot) holding at least a private pilot certificate may perform the visual check required by this paragraph, but must enter compliance with this paragraph into the helicopter records in accordance with 14 CFR 43.11 and 91.417(a)(2)(v) | Figure 1 of this AD.
(b) Tailboom, P/N 407-030-801-101 and -105, that have 600 or more hours TIS and have not been modified in accordance with Bell ASB 407-01-48, Revision B, dated April 25, 2002 | Within 25 hours time-in-service (TIS), and thereafter at intervals not to exceed 50 hours TIS | Visually inspect the tailboom for cracks using a 10x or higher magnifying glass | Part II of the Accomplishment Instructions of Bell ASB 407-99-26, Revision C, dated February 28, 2002, except contacting Bell is not required.
(c) Tailboom, P/N 407-030-801-101 and -105 | Within 600 hours TIS, but not later than 30 days, unless previously accomplished | Modify and re-identify tailbooms as P/N 407-530-014-101 and -103, respectively, and install improved horizontal stabilizer assembly, P/N 407-023-800-ALL | Parts I and III of the Accomplishment Instructions in Bell ASB 407-01-48, Revision B, dated April 25, 2002, and Bell Technical Bulletin No. 407-01-33, dated August 29, 2001, except contacting Bell is not required.
(d) Tailboom, P/N 407-530-014-101 and -103; and P/N 407-030-801-107 | Before further flight after the tailboom is modified and re-identified, unless previously accomplished | Create a historical service record sheet and assign a life limit of 5,000 hours TIS since modification, re-identification, and installation of tailboom,P/N 407-530-014-101 or -103, on any helicopter, or initial installation of P/N 407-030-801-107 on any helicopter | Part IV of the Accomplishment Instructions in Bell ASB 407-01-48, Revision B, dated April 25, 2002.
(e) Tailboom, P/N 407-530-014-101 and 103; and P/N 407-030-801-107 | Within 150 hours TIS after modification, or within 150 hours TIS since new, and thereafter at intervals not to exceed 150 hours TIS | Inspect the tailboom for a crack | Parts IV and V of the Accomplishment Instructions in Bell ASB 407-01-48, Revision B, dated April 25, 2002.
(f) All applicable part-numbered tailbooms | Before further flight | If a crack is found, replace the tailboom | The applicable maintenance manual.

BILLING CODE 4910-13-P

BILLING CODE 4910-13-C

(g) This AD revises the helicopter Airworthiness Limitations section of the maintenance manual by establishing a new retirement life for the tailboom, P/N 407-530-014-101 and -103, and P/N 407-030-801-107 of 5,000 hours TIS.

(h) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(i) Special flight permits may be issued in accordance with §§ 21.197 and 21.199 of the Federal Aviation Regulations (14 CFR 21.197 and 21.199) to operate the helicopter to a location where the requirements of this AD can be accomplished.

(j) The inspections shall be done in accordance with Part II of the Accomplishment Instructions in Bell Helicopter Textron Alert Service Bulletin No. 407-99-26, Revision C, dated February 28, 2002. The modifications and re-identifications shall be accomplished in accordance with Bell Helicopter Textron Technical Bulletin No. 407-01-33, dated August 29, 2001, and Parts I and III of the Accomplishment Instructions in Bell Helicopter Textron Alert Service Bulletin 407-01-48, Revision B, dated April 25, 2002. The creation of historical service record sheets and inspections shall be done in accordance with Parts IV and V of the Accomplishment Instructions in Bell Helicopter ASB 407-01-48, Revision B, dated April 25, 2002. These incorporations by reference were approved by the Director of the Federal Register in accordance with 5 U.S.C. 552(a) and 1 CFR part 51. Copies may be obtained from Bell Helicopter Textron Canada, 12,800 Rue de l'Avenir, Mirabel, Quebec J7J1R4, telephone (450) 437-2862 or (800) 363-8023, fax (450) 433-0272. Copies may be inspected at the FAA, Office of the Regional Counsel, Southwest Region, 2601 Meacham Blvd., Room 663, Fort Worth, Texas; or at the Office of the Federal Register, 800 North Capitol Street, NW., suite 700, Washington, DC.

(k) This amendment becomes effective on April 17, 2003.

Note 3: The subject of this AD is addressed in Transport Canada (Canada) AD No. CF-1999-17R2, dated April 5, 2002.

Issued in Fort Worth, Texas, on March 3, 2003.
David A. Downey,
Manager, Rotorcraft Directorate, Aircraft Certification Service.

[FR Doc. 03-5576 Filed 3-12-03; 8:45 am]

BILLING CODE 4910-13-P